DEPARTMENT OF HEALTH AND HUMAN SERVICES

National Institutes of Health

National Cancer Institute; Amended Notice of Meeting

Notice is hereby given of a change in the meeting of the National Cancer Advisory Board, February 15, 2017, 1:00 p.m. to February 15, 2017, 3:00 p.m., National Cancer Institute Shady Grove, 9609 Medical Center Drive, Rockville, MD 20850 which was published in the Federal Register on January 9, 2017, 81 FR 4365.

This meeting notice is amended to add an additional open session agenda item titled “Proposed Organizational Change: Center for Cancer Training”. The meeting is partially closed to the public.

Dated: January 18, 2017.
Melanie J. Pantoja,
Program Analyst, Office of Federal Advisory Committee Policy.

[FR Doc. 2017-01573 Filed 1-24-17; 8:45 am]

BILLING CODE 4140-01-P